NUCLEAR REGULATORY COMMISSION

[NRC-2023-0084]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by May 18, 2023. A request for a hearing or petitions for leave to intervene must be filed by June 20, 2023. This monthly notice includes all amendments issued, or proposed to be issued, from March 3, 2023, to March 30, 2023. The last monthly notice was published on March 21, 2023.

ADDRESSES: You may submit comments by any of the following methods; however, the NRC encourages electronic comment submission through the Federal rulemaking website:

• Federal Rulemaking Website: Go to https://www.regulations.gov and search for Docket ID NRC-2023-0084. Address questions about Docket IDs in Regulations.gov to Stacy Schumann; telephone: 301-415-0624; email: Stacy.Schumann@nrc.gov. For technical questions, contact the individual listed in the For Further Information Contact section of this document.

• Mail Comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Rhonda Butler, Office of Nuclear Reactor Regulation, U.S. Nuclear Regulatory Commission, Washington, DC 20555-0001, telephone: 301-415-8025; email: Rhonda.Butler@nrc.gov.

SUPPLEMENTARY INFORMATION:

I. Obtaining Information and Submitting Comments

A. Obtaining Information

Please refer to Docket ID NRC-2023-0084, facility name, unit number(s), docket number(s), application date, and subject when contacting the NRC about the availability of information for this action. You may obtain publicly available information related to this action by any of the following methods:

• Federal Rulemaking website: Go to https://www.regulations.gov and search for Docket ID NRC-2023-0084.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0084, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b) through (d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Constellation Energy Generation, LLC; Braidwood Station, Units 1 and 2, Will County, IL
Docket No(s). | 50-456, 50-457.
Application date | March 24, 2023.
ADAMS Accession No. | ML23083B941.
Location in Application of NSHC | Pages 15-17 of Attachment 1.
Brief Description of Amendment(s) | The amendment proposes to change technical specification surveillance requirement 3.7.9.2 to allow an ultimate heatsink temperature of ≤102.8 °F until September 30, 2023.
Proposed Determination | NSHC.
Name of Attorney for Licensee, Mailing Address | Jason Zorn, Associate General Counsel, Constellation Energy Generation, 101 Constitution Ave. NW, Suite 400 East, Washington, DC 20001.
NRC Project Manager, Telephone Number | Joel Wiebe, 301-415-6606.
Constellation Energy Generation, LLC; LaSalle County Station, Units 1 and 2; LaSalle County, IL
Docket No(s). | 50-373, 50-374.
Application date | January 12, 2023.
ADAMS Accession No. | ML23013A076.
Location in Application of NSHC | Pages 9 and 10 of Attachment 1.
Brief Description of Amendment(s) | The proposed amendments would revise the LaSalle County Station, Units 1 and 2, Updated Final Safety Analysis Report to allow the use of plastic section properties in the analysis of the lower downcomer braces.
Proposed Determination | NSHC.
Name of Attorney for Licensee, Mailing Address | Jason Zorn, Associate General Counsel, Constellation Energy Generation, 4300 Winfield Road Warrenville, IL 60555.
NRC Project Manager, Telephone Number | Robert Kuntz, 301-415-3733.
Constellation Energy Generation, LLC; Quad Cities Nuclear Power Station, Units 1 and 2; Rock Island County, IL
Docket No(s). | 50-254, 50-265.
Application date | March 3, 2023.
ADAMS Accession No. | ML23062A450.
Location in Application of NSHC | Pages 5 and 6 of Attachment 1.
Brief Description of Amendment(s) | The amendments request technical specification (TS) changes to adopt Technical Specification Task Force (TSTF) Traveler TSTF-564 “Safety Limit MCPR [minimum critical power ratio],” Revision 2. The proposed changes will revise the TS safety limit for MCPR.
Proposed Determination | NSHC.
Name of Attorney for Licensee, Mailing Address | Jason Zorn, Associate General Counsel, Constellation Energy Generation, 4300 Winfield Road Warrenville, IL 60555.
NRC Project Manager, Telephone Number | Robert Kuntz, 301-415-3733.
Florida Power & Light Company, et al.; St. Lucie Plant, Units. 1 and 2; St. Lucie County, FL
Docket No(s). | 50-335, 50-389.
Application date | December 2, 2022.
ADAMS Accession No. | ML22336A071.
Location in Application of NSHC | Pages 23-25 of the Enclosure.
Brief Description of Amendment(s) | The proposed amendments would modify the licensing basis by the addition of a license condition to allow for the implementation of the provisions of 10 CFR 50.69, “Risk-Informed Categorization and Treatment of Structures, Systems and Components for Nuclear Power Reactors.” The provisions of 10 CFR 50.69 allow adjustment of the scope of equipment subject to special treatment controls (e.g., quality assurance, testing, inspection, condition monitoring, assessment, and evaluation).
Proposed Determination | NSHC.
Name of Attorney for Licensee, Mailing Address | Steven Hamrick, Senior Attorney, 801 Pennsylvania Ave. NW, Suite 220, Washington, DC 20004.
NRC Project Manager, Telephone Number | Natreon Jordan, 301-415-7410.
National Institute of Standards and Technology, Center for Neutron Research Test Reactor, Montgomery County, Maryland
Docket No(s). | 50-184.
Application date | December 11, 2020.
ADAMS Accession No. | ML21053A037 (package).
Location in Application of NSHC | Attachment dated October 11, 2020.
Brief Description of Amendment(s) | The proposed amendment would revise the National Bureau of Standards Test Reactor safety analysis report to describe an alternative method to determine the potential dose consequence of tritium from a hypothetical release from the new liquid deuterium cold neutron source. The amendment would also authorize the National Institute of Standards and Technology to calculate the dose consequence of a hypothetical release of tritium from new proposed cold neutron source to take into account the actual physical and chemical characteristics of the effluents consistent with 10 CFR part 20, “Standards for Protection against Radiation,” Appendix B, “Annual Limits on Intake (ALI) and Derived Air Concentrations (DACs) of Radionuclides for Occupational Exposure; Effluent Concentrations; Concentrations for Release to Sewerage.”
Proposed Determination | NSHC.
Name of Attorney for Licensee, Mailing Address | Henry N. Wixon, Chief of Counsel, National Institute of Standards and Technology, 100 Bureau Drive, Stop 1052, Room A534, Gaithersburg, MD 20899-1052.
NRC Project Manager, Telephone Number | Patrick G. Boyle, 301-415-3936.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Dresden Nuclear Power Station, Units 2 and 3; Grundy County, IL
Docket No(s) | 50-237, 50-249.
Amendment Date | March 22, 2023.
ADAMS Accession No | ML23032A360.
Amendment No(s) | 279 (Unit 2) and 272 (Unit 3).
Brief Description of Amendment(s) | The amendments changed the criticality safety analysis (CSA) methodology for performing the criticality safety evaluation for legacy fuel types in addition to the GNF3 [Global Nuclear Fuel3] reload fuel in the spent fuel pool at Dresden Nuclear Power Station, Units 2 and 3. The amendment also revised Technical Specifications 4.3.1, “Criticality.” Additionally, the amendment changed the new fuel vault (NFV) CSA to utilize the GE Hitachi Nuclear Energy 003N7421-P, Revision 1, methodology to validate criticality safety for GNF3 fuel in the General Electric designed NFV racks.
Public Comments Received as to Proposed NSHC (Yes/No) | No.
Constellation Energy Generation, LLC; Limerick Generating Station, Units 1 and 2; Montgomery County, PA
Docket No(s) | 50-352, 50-353.
Amendment Date | March 7, 2023.
ADAMS Accession No | ML22348A176.
Amendment No(s). | 260 (Unit 1) and 222 (Unit 2).
Brief Description of Amendment(s) | The amendments revised the technical specifications (TSs) to increase the allowed outage time for inoperable remote shutdown system components to a time that is more consistent with their safety significance and delete TS Table 3.3.7.4-1, “Remote Shutdown System Instrumentation and Controls,” to be relocated to the Technical Requirements Manual, and corrected an administrative error to replace Unit 1 license page number 3.
Public Comments Received as to Proposed NSHC (Yes/No) | No.
Dominion Energy Nuclear Connecticut, Inc.; Millstone Power Station, Unit Nos. 2 and 3; New London County, CT
Docket No(s) | 50-336, 50-423.
Amendment Date | March 16, 2023.
ADAMS Accession No | ML23058A454.
Amendment No(s) | 345 (Unit 2) and 285 (Unit 3).
Brief Description of Amendment(s) | The amendments revised the technical specification requirements for mode change limitations in Limiting Condition for Operation 3.0.4 and Surveillance Requirement 4.0.4 to adopt the provisions of Technical Specification Task Force (TSTF) Traveler-359, Revision 9 (TSTF-359), “Increase Flexibility in Mode Restraints.” The availability of TSTF-359 for adoption by licensees was announced in the Federal Register on April 4, 2003 (68 FR 16579) as part of the Consolidated Improvement Process.
Public Comments Received as to Proposed NSHC (Yes/No) | No.
Duke Energy Carolinas, LLC; Catawba Nuclear Station, Units 1 and 2; York County, SC; Duke Energy Carolinas, LLC; McGuire Nuclear Station, Units 1 and 2; Mecklenburg County, NC; Duke Energy Carolinas, LLC; Oconee Nuclear Station, Units 1, 2, and 3; Oconee County, SC; Duke Energy Progress, LLC; Brunswick Steam Electric Plant, Units 1 and 2; Brunswick County, NC; Duke Energy Progress, LLC; H. B. Robinson Steam Electric Plant, Unit 2; Darlington County, SC; Duke Energy Progress, LLC; Shearon Harris Nuclear Power Plant, Unit 1; Wake and Chatham Counties, NC; Duke Energy Carolinas, LLC; William States Lee III, Units 1 and 2; Cherokee County, South Carolina
Docket No(s) | 50-325, 50-324, 50-413, 50-414, 50-400, 50-369, 50-370, 50-269, 50-270, 50-287, 50-261, 52-018, and 52-019.
Amendment Date | March 10, 2023.
ADAMS Accession No | ML22332A493.
Amendment No(s). | Brunswick 311 (Unit 1) and 339 (Unit 2); Catawba 316 (Unit 1) and 312 (Unit 2); Harris 197 (Unit1); McGuire 327 (Unit 1) and 306 (Unit 2); Oconee 427 (Unit 1), 429 (Unit 2) and 428 (Unit 3); Robinson 275 (Unit 2); Lee III 001 (Unit 1) and 001 (Unit 2).
Brief Description of Amendment(s) | The issued amendments approve the relocation of the existing Duke Energy Emergency Operations Facility (EOF), located at 526 South Church Street, Charlotte, North Carolina, to a Duke Energy office building located at 9700 David Taylor Drive, Charlotte, North Carolina.
Public Comments Received as to Proposed NSHC (Yes/No) | No.
Energy Harbor Nuclear Corp. and Energy Harbor Nuclear Generation LLC; Beaver Valley Power Station, Units 1 and 2; Beaver County, PA
Docket No(s) | 50-334, 50-412.
Amendment Date | March 16, 2023.
ADAMS Accession No | ML23019A003.
Amendment No(s) | 320 (Unit 1) and 210 (Unit 2).
Brief Description of Amendment(s) | The amendments adopted Technical Specifications Task Force (TSTF) Traveler TSTF-501, Revision 1, “Relocate Stored Fuel Oil and Lube Oil Volume Values to Licensee Control,” with plant-specific variations. The technical specifications (TS) are revised to replace the stored fuel oil and stored lube oil volume requirements (gallons) with time-based requirements (days or hours of supply). The current volume requirements are relocated from the TS to a licensee-controlled document.
Public Comments Received as to Proposed NSHC (Yes/No) | No.
Energy Northwest; Columbia Generating Station; Benton County, WA
Docket No(s) | 50-397.
Amendment Date | March 15, 2023.
ADAMS Accession No | ML23013A081.
Amendment No(s) | 270.
Brief Description of Amendment(s) | The amendment revised the technical specification requirements to permit the use of risk informed completion times for actions to be taken when limiting conditions for operation are not met. The changes are based on Technical Specifications Task Force (TSTF) Traveler TSTF-505, Revision 2, “Provide Risk Informed Extended Completion Times—RITSTF [Risk-Informed TSTF] Initiative 4b,” dated July 2, 2018.
Public Comments Received as to Proposed NSHC (Yes/No) | No.
National Institute of Standards and Technology, Center for Neutron Research Test Reactor, Montgomery County, Maryland
Docket No(s) | 50-184.
Amendment Date | March 2, 2023.
ADAMS Accession No | ML23055A300.
Amendment No(s) | 15.
Brief Description of Amendment(s) | The amendment authorizes revision to the safety analysis report (SAR) for the National Bureau of Standards Test Reactor. Specifically, the amendment modifies the SAR to describe an alternative fuel management scheme and associated analytic methods.
Public Comments Received as to Proposed NSHC (Yes/No) | No.
PSEG Nuclear LLC; Hope Creek Generating Station; Salem County, NJ; PSEG Nuclear LLC; Salem Nuclear Generating Station, Unit Nos. 1 and 2; Salem County, NJ
Docket No(s) | 50-354, 50-272, 50-311.
Amendment Date | March 9, 2023.
ADAMS Accession No | ML23037A971.
Amendment No(s) | Hope Creek 233; Salem 344 (Unit 1), Salem 325 (Unit 2).
Brief Description of Amendment(s) | The amendments relocated the Salem Facility Staff Qualification and Hope Creek Unit Staff Qualification Requirements to the PSEG Quality Assurance Topical Report.
Public Comments Received as to Proposed NSHC (Yes/No) | No.
PSEG Nuclear LLC; Salem Nuclear Generating Station, Unit Nos. 1 and 2;
Salem County, NJ
Docket No(s) | 50-272, 50-311.
Amendment Date | March 13, 2023.
ADAMS Accession No | ML23044A105.
Amendment No(s) | 345 (Unit 1) and 326 (Unit 2).
Brief Description of Amendment(s) | The amendment relocated Technical Specification (TS) 3/4.4.12 limiting condition for operation, associated Action Statements and Surveillance Requirements for the Reactor Coolant System Head Vents from the TS to the Technical Requirements Manual for the Salem Nuclear Generating Station, Units Nos. 1 and 2.
Public Comments Received as to Proposed NSHC (Yes/No) | No.
Southern Nuclear Operating Company, Inc.; Joseph M. Farley Nuclear Plant, Units 1 and 2; Houston County, AL
Docket No(s) | 50-348, 50-364.
Amendment Date | March 16, 2023.
ADAMS Accession No | ML23054A455.
Amendment No(s) | 245 (Unit 1) and 242 (Unit 2).
Brief Description of Amendment(s) | The amendments revised Technical Specification 3.4.10, “Pressurizer Safety Valves.” The changes revised the as found setpoint low side tolerance from −1 percent (less than or equal to 2460 pounds per square inch gauge (psig)) to −2.5 percent (less than or equal to 2423 psig).
Public Comments Received as to Proposed NSHC (Yes/No) | No.
Virginia Electric and Power Company; Surry Power Station, Unit Nos. 1 and 2; Surry County, VA
Docket No(s) | 50-280, 50-281.
Amendment Date | March 10, 20233.
ADAMS Accession No. | ML23030B847.
Amendment No(s). | 309 (Unit 1) and 309 (Unit 2).
Brief Description of Amendment(s) | The amendments revised Technical Specification 3.6.I.2 by permanently extending the allowed outage time (i.e., completion time) from 3 days to 10 days for the opposite unit Auxiliary Feedwater (AFW) pump cross-connect capability specific to when maintenance that would result in the inoperability of all three of the opposite unit's AFW pumps is being performed.
Public Comments Received as to Proposed NSHC (Yes/No) | No.

IV. Notice of Issuance of Amendments to Facility Operating Licenses and Combined Licenses and Final Determination of No Significant Hazards Consideration and Opportunity for a Hearing (Exigent Circumstances or Emergency Situation)

Since publication of the last monthly notice, the Commission has issued the following amendments. The Commission has determined for each amendment that the application for the amendment complies with the standards and requirements of the Atomic Energy Act of 1954, as amended (the Act), and the Commission's rules and regulations. The Commission has made appropriate findings as required by the Act and the Commission's rules and regulations in 10 CFR chapter I, which are set forth in the license amendments.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendments involve NSHC. The basis for this determination is contained in the documents related to each action. Accordingly, the amendments have been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that each amendment satisfies the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated in the safety evaluation for each amendment.

For further details with respect to these actions, see the amendments and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance(s)—Exigent/Emergency Circumstances
Constellation Energy Generation, LLC; LaSalle County Station, Unit 1; LaSalle County, IL
Docket No(s) | 50-373.
Amendment Date | March 22, 2023.
ADAMS Accession No | ML23073A218.
Amendment No(s) | 258.
Brief Description of Amendment(s) | The amendment revised the Updated Final Safety Analysis Report to allow the use of a temporary cable installation that does not meet seismic qualifications to enable restoration of the Reactor Protection System Turbine Control Valve #2 Channel B1 Scram Channel to operable until the next refueling outage on LaSalle County Station, Unit 1.
Local Media Notice (Yes/No) | No.
Public Comments Requested as to Proposed NSHC (Yes/No) | No.
Energy Harbor Nuclear Corp. and Energy Harbor Nuclear Generation LLC; Beaver Valley Power Station, Unit 1; Beaver County, PA
Docket No(s) | 50-334.
Amendment Date | March 6, 2023.
ADAMS Accession No | ML23062A521.
Amendment No(s) | 319.
Brief Description of Amendment(s) | The amendment revised Beaver Valley Power Station, Unit 1, Technical Specification 3.5.2, “ECC-Operating” by adding a note that allowed a one-time use of an alternate manual flow path to support repair of a leak. In its application, the licensee requested that the NRC process the proposed amendment under emergency circumstances. The license amendment was issued under emergency circumstances as provided in the provisions of 10 CFR 50.91(a)(5) because of the time critical nature of the amendment.
Local Media Notice (Yes/No) | No.
Public Comments Requested as to Proposed NSHC (Yes/No) | No.

Dated: April 12, 2023.
For the Nuclear Regulatory Commission.
Jamie M. Heisserer,
Deputy Director, Division of Operating Reactor Licensing, Office of Nuclear Reactor Regulation.

[FR Doc. 2023-08140 Filed 4-17-23; 8:45 am]

BILLING CODE 7590-01-P